FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Asecomer International Corporation dba Interworld Freight Inc. dba Junior Cargo, Inc. dba Intercontinental Lines Corp. (NVO), 8225 NW 80 Street, Miami, FL 33166, Officer: John O. Crespo, President (Qualifying Individual), Application Type: Trade Name Change.

Aslo USA, Corp. (NVO & OFF), 877 SW 149 Court, Miami, FL 33194, Officer: Robert Esquivel, President/Secretary/Treasurer (Qualifying Individual), Application Type: New NVO & OFF License.

Caribbean Forwarding LLC (NVO & OFF), 8730 NW 100th Street, Medley, FL 33178, Officers: Tibisay Tovar, Manager (Qualifying Individual), Doris Rodriguez, Manager, Application Type: New NVO & OFF License.

Clover Systems, LLC dba Clover Marine (NVO & OFF), 1910 NW 97th Avenue, Miami, FL 33172, Officers: Holly A. Rincon, Manager, Luis A. Rincon, Manager (Qualifying Individuals), Application Type: Business Structure Change.

De Well Container Shipping Corp. (NVO), One Cross Island Plaza, Suite 302, Rosedale, NY 11422, Officers: Chang W. Kim, Vice President (Qualifying Individual), Time Yang, Chief Executive Officer, Application Type: QI Change.

Gwinnett Shipping & Receiving, LLC dba Korea Intermodal USA (NVO), 1418 Beaver Ruin Road, Norcross, GA 30093, Officers: Won A. An, Manager (Qualifying Individual), Joon H. An, Member, Application Type: New NVO License.

King Solomon Logistics Inc. (NVO), 135-14 Liberty Avenue, South Richmond Hill, NY 11419, Officers: Bernard Hollingsworth, President (Qualifying Individual), Veronique Hollingsworth, Secretary/Treasurer, Application Type: New NVO.

Kokusai Soko America, Inc. dba KSAI (OFF), 11105 S. La Cienega Blvd., Los Angeles, CA 90045, Officers: Masahiro Chida, President (Qualifying Individual), Manabu Ishida, Secretary/General Manager, Application Type: QI Change/Trade Name Change.

KY Logistics Inc. (NVO), 167-16 146th Avenue, Suite 203, Jamaica, NY 11434, Officer: Yau Fung Ling, President/Vice President/Secretary/Treasurer (Qualifying Individual), Application Type: New NVO License.

Master Logistics, Inc. (NVO), 9 Woods Lane, Roslyn, NY 11576, Officer: JingLu Tsai, President/Director/Secretary/Treasurer (Qualifying Individual), Application Type: New NVO License.

MNS International Inc (NVO & OFF), 589 Franklin Turnpike, Ridgewood, NJ 07450, Officers: Steven R. Goodglass, Vice President/Treasurer/Director (Qualifying Individual), Mark A. Schriber, President/Secretary/Director, Application Type: New NVO & OFF License.

New Marine Consolidator, Inc. (NVO), 13200 Crossroads Parkway North, Suite 360, City of Industry, CA 91746, Officers: Min-Wu (Winnie) Yen, Secretary (Qualifying Individual), Chun (Bryan) Fang, Director/President, Application Type: New NVO License.

Optima Cargo & Logistics Inc (NVO & OFF), 9550 NW 12th Street, #16B, Miami, FL 33172, Officers: Juan C. Nunez, President/COO (Qualifying Individual), Alcira D. Tablada, Vice President, Application Type: QI Change.

OTX Logistics, Inc. (NVO & OFF), 90 SW 3rd Street, Unit 3604, Miami, FL 33130, Officers: Harald Oechsner, President/Director (Qualifying Individual), Spencer Chun C. Lam, Director, Application Type: New NVO & OFF License.

Prolog Services Inc. dba PSI Ocean Freight Systems (NVO & OFF), 5803 Sovereign Drive, #220, Houston, TX 77036, Officers: Stanley A. Egbo, President/Secretary (Qualifying Individual), Ernest C. Agu, Vice President, Application Type: Add NVO Service.

Rapidex USA LLC (NVO & OFF), 71 Veronica Avenue, Suite 2, Somerset, NJ 08873, Officers: Mohamed Y. Ali, Manager (Qualifying Individual), Abdul S. Mohamed, Member, Application Type: Add OFF Service.

Reece Ventures, LLC dba I love Moving (NVO & OFF), 8939 S. Sepulveda Blvd., #102, Los Angeles, CA 90045, Officers: Alexander Ravich, General Manager-Officer (Qualifying Individual), Franka Reece, Member/Manager, Application Type: New NVO & OFF License.

Rescigno Logistics Group, LLC (NVO & OFF), 1 Windsor Cove, Suite 301, Columbia, SC 29223, Officers: Michael D. Rescigno, Member (Qualifying Individual), Sigrid M. Rescigno, Member, Application Type: New NVO & OFF License.

Rhino Moving Inc (NVO), 1130 S. Powerline Road, #103, Deerfield Beach, FL 33442, Officers: Yoel Kegnovich, President/Treasurer (Qualifying Individual), Michelle Kegnovich, Vice President/Secretary, Application Type: New NVO License.

Sealand Freight LLC (NVO), 3925 Galveston Road, #A, Houston, TX 77017, Officers: Walid M. Hattab, Chief Executive Member (Qualifying Individual), Ola M. Ghunmat, Member, Application Type: New NVO License.

Straight Forwarding, Inc. (NVO), 20974 Currier Road, City of Industry, CA 91789, Officer: Yi-Hsiang (Eric) Wu, President/Secretary/Treasurer/CFO (Qualifying Individual), Application Type: New NVO License.

Superior Freight Services, Inc. (NVO & OFF), 1230 Trapp Road, Eagan, MN 55121, Officers: David L. Stark, President/Director (Qualifying Individual), Brian O'Donnell, Vice President/Director, Application Type: Add OFF Service.

Trade Logistics Corp. (NVO & OFF), 3954 Osprey Ct., Weston, FL 33331, Officer: Jaime Garces, President/Vice President/Secretary/Treasurer (Qualifying Individual), Application Type: New NVO & OFF License.

Transmark Logistics, Inc. dba Transmark Logistics (OFF), 22217 68th Avenue South, Kent, WA 98032, Officers: Rosemary Weber, Vice President (Qualifying Individual), Murvin P. Allen, President/Secretary/Treasurer, Application Type: New OFF License.

Tri-Crown Shipping LLC (NVO & OFF), 3545 West River Commons, Douglasville, GA 30135, Officer: Abimbola Badejo, Member (Qualifying Individual), Application Type: New NVO & OFF License.

We International Inc. (NVO & OFF), 6690 Amador Plaza Road, Suite 115, Dublin, CA 94568, Officers: Leanne Kwan, Vice President (Qualifying Individual), Fangbin Wu, President, Application Type: QI Change.

World Logistics LLC (NVO & OFF), 12130 Dixie, #B, Redford, MI 48239, Officer: Samar Hazime, President/Member (Qualifying Individual), Application Type: New NVO & OFF License.

Dated: March 2, 2012.
Karen V. Gregory,
Secretary.

[FR Doc. 2012-5563 Filed 3-6-12; 8:45 am]

BILLING CODE 6730-01-P